DEPARTMENT OF HEALTH AND HUMAN SERVICES

Solicitation of Nominations for Organizations To Serve as Non-Voting Liaison Representatives to the Chronic Fatigue Syndrome Advisory Committee (CFSAC)

AGENCY: Office of the Assistant Secretary for Health, Office of the Secretary, Department of Health and Human Services.

ACTION: Notice.

Authority: 42 U.S.C. 217a, section 222 of the Public Health Service (PHS) Act, as amended. The committee is governed by the provisions of the Federal Advisory Committee Act, as amended (5 U.S.C. App 2), which sets forth standards for the formation and use of advisory committees.

SUMMARY: The Office of the Assistant Secretary for Health (OASH), within the Department of Health and Human Services (HHS), is soliciting nominations from qualified organizations to be considered for non-voting liaison representative positions on the Chronic Fatigue Syndrome Advisory Committee (CFSAC). CFSAC provides advice and recommendations to the Secretary of HHS, through the Assistant Secretary for Health (ASH), on a broad range of issues and topics related to myalgic encephalomyelitis/chronic fatigue syndrome (ME/CFS). The issues can include factors affecting access and care for persons with ME/CFS; the science and definition of ME/CFS; and public health, clinical, research, and educational issues related to ME/CFS. These three non-voting liaison representative positions will be occupied by individuals who are selected by their organizations to serve as representatives of organizations concerned with ME/CFS. Organizations will be designated to occupy the positions for a two-year term to commence during the 2013 calendar year. Nominations of qualified organizations are being sought for these three non-voting liaison representative positions. The organizations chosen for representation on CFSAC will be selected by the Designated Federal Officer (DFO) or designee during the 2013 calendar year. Details of nomination requirements are provided below.

DATES: Nominations must be received no later than 5 p.m. EDT on February 22, 2013, at the address listed below.

ADDRESSES: All nominations should be mailed or delivered to Nancy C. Lee, M.D., Designated Federal Officer, Chronic Fatigue Syndrome Advisory Committee, Office on Women's Health, Department of Health and Human Services, 200 Independence Ave. SW., Room 712E, Washington, DC 20201. Nomination materials, including attachments, may be submitted electronically to cfsac@hhs.gov.

FOR FURTHER INFORMATION CONTACT: Nancy C. Lee, M.D., Designated Federal Officer, Chronic Fatigue Syndrome Advisory Committee, Office on Women's Health, Department of Health and Human Services, 200 Independence Ave. SW., Room 712E, Washington, DC 20201. Inquiries can be sent to cfsac@hhs.gov.

SUPPLEMENTARY INFORMATION: CFSAC was established on September 5, 2002. The purpose of the CFSAC is to provide advice and recommendations to the Secretary of HHS, through the ASH, on issues related to ME/CFS. CFSAC advises and makes recommendations on a broad range of topics including: (1) The current state of knowledge and research; the relevant gaps in knowledge and research about the epidemiology, etiologies, biomarkers and risk factors relating to ME/CFS; and potential opportunities in these areas; (2) impact and implications of current and proposed diagnostic and treatment methods for ME/CFS; (3) development and implementation of programs to inform the public, health care professionals, and the biomedical research communities about ME/CFS advances; and (4) strategies to improve the quality of life of ME/CFS patients. Management and support services for Committee activities are provided by staff from the HHS Office on Women's Health, within the OASH. The CFSAC charter is available at http://www.hhs.gov/advcomcfs/charter/index.html.

CFSAC meetings are held not less than two times per year. The CFSAC membership consists of 11 voting members, including the Chair. The voting members are composed of seven biomedical research scientists, and four individuals with expertise in health insurance, health care delivery, private health care services, or representatives of voluntary organizations concerned with the problems of individuals with ME/CFS. CFSAC also includes seven non-voting ex officio member representatives from the Agency for Healthcare Research and Quality, Centers for Disease Control and Prevention, Centers for Medicare and Medicaid Services, Food and Drug Administration, Health Resources and Services Administration, National Institutes of Health, and Social Security Administration.

The CFSAC structure has been expanded to include three non-voting liaison representative positions. Authorization was given for the Committee structure to include the three non-voting liaison representative positions when the charter was renewed on September 5, 2012. These positions will be occupied by individuals who are selected by their organizations to serve as the official representative for organizations that are concerned with ME/CFS. Organizations will occupy these representative positions for a two-year term.

Nominations

The OASH is requesting nominations of organizations to fill three non-voting liaison representative positions for the CFSAC. The represented organizations will be selected by the DFO or designee during the 2013 calendar year.

Selection of organizations that will serve as non-voting liaison representatives will be based on the organization's qualifications to contribute to the accomplishment of the CFSAC mission, as described in the Committee charter. In selecting organizations to be considered for these positions, the OASH will give close attention to equitable geographic distribution and give priority to U.S.-chartered 501(c)(3) organizations that operate within the United States and have membership with demonstrated expertise in ME/CFS and related research, clinical services, or advocacy and outreach on issues concerning ME/CFS.

The individual designated to serve as the official non-voting liaison representative will perform the associated duties without compensation, and will not receive per diem or reimbursement for travel expenses. The organizations that are selected to be represented will cover expenses for the designated representative to attend, at a minimum, one in-person CFSAC meeting per year during the designated term of appointment.

To qualify for consideration of selection to the Committee, an organization should submit the following items:

(1) A statement of the organization's history, mission, and focus, including information that demonstrates the organization's experience and expertise in ME/CFS and related research, clinical services, or advocacy and outreach on issues of ME/CFS, as well as expert knowledge of the broad issues and topics pertinent to ME/CFS. This information should demonstrate the organization's proven ability to work and communicate with the ME/CFS patient and advocacy community, and other public/private organizations concerned with ME/CFS, including public health agencies at the federal, state, and local levels.

(2) One to three letters of recommendation that clearly state why the organization is qualified to serve on CFSAC in a representative position. These letters should be from individuals who are not part of the organization's leadership.

(3) A statement that the organization is willing to serve as a non-voting liaison representative of the Committee and will cover expenses for an individual representative to attend in-person, at a minimum, one CFSAC meeting per year in Washington, DC during the designated term of appointment.

(4) A current financial disclosure statement (or annual report) demonstrating the organization's ability to cover expenses for an individual to attend, at a minimum, one CFSAC meeting per year in Washington, DC, during the term of appointment.

Submitted nominations must include these critical elements in order for the organization to be considered for one of the non-voting liaison representative positions.

Nomination materials should be typewritten, 12-point type and double-spaced. All nomination materials should be submitted (postmarked or received) by February 22, 2013.

Electronic submissions: Nomination materials, including attachments, may be submitted electronically to cfsac@hhs.gov.

Telephone and facsimile submissions cannot be accepted.

Regular, Express, or Overnight Mail: Written documents may be submitted to the following addressee only: Nancy C. Lee, Designated Federal Officer, CFSAC, Office on Women's Health, Department of Health and Human Services, 200 Independence Ave. SW., Room 712E, Washington, DC 20201.

HHS makes every effort to ensure that the membership of Federal advisory committees is fairly balanced in terms of points of view represented. Every effort is made to ensure that a broad representation of geographic areas, sex, ethnic and minority groups, and people with disabilities are given consideration for membership on Federal advisory committees. Selection of the represented organizations shall be made without discrimination against the composition of an organization's membership on the basis of age, sex, race, ethnicity, sexual orientation, disability, and cultural, religious, or socioeconomic status.

Dated: January 18, 2013.
Nancy C. Lee,
Designated Federal Officer, Chronic Fatigue Syndrome Advisory Committee.

[FR Doc. 2013-01456 Filed 1-24-13; 8:45 am]

BILLING CODE 4150-42-P